DEPARTMENT OF TRANSPORTATION

Pipeline and Hazardous Materials Safety Administration

Notice of Applications for Modification of Special Permit

AGENCY: Pipeline and Hazardous Materials Safety Administration (PHMSA), DOT.

ACTION: List of applications for modification of special permits.

SUMMARY: In accordance with the procedures governing the application for, and the processing of, special permits from the Department of Transportation's Hazardous Material Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before March 11, 2013.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

This notice of receipt of applications for modification of special permit is published in accordance with Part 107 of the Federal hazardous materials transportation law (49 U.S.C. 5117(b); 49 CFR 1.53(b)).

Issued in Washington, DC, on February 7, 2013.
Donald Burger,
Chief, General Approval and Permits.

Application No. | Docket No. | Applicant | Regulation(s) affected | Nature of special permits thereof
MODIFICATION SPECIAL PERMITS
10915-M |  | Luxfer Gas Cylinders Riverside, CA | 49 CFR 173.302a, 173.304a and 180.205 | To modify the special permit to authorize a new maximum allowable working pressure and maximum allowable strength stiffness.
12531-M |  | Worthing Cylinder Corporation Columbus, OH | 49 CFR 173.302(a), 173.304(a), 173.304(d), 178.61(b), 178.61(f), 178.61(g), 178.61(i) and 178.61(k) | To modify the special permit to authorize a Class 8 packaging group I material.
13336-M |  | Renaissance Industries Sharpsville, PA | 49 CFR 173.302(a)(1) and 173.304 | To modify the special permit to authorize additional seamless stainless steel type 304 packaging and remove requirements when reoffered for transportation.
13581-M |  | Bengal Products Inc. Baton, Rouge, LA | 49 CFR 173.306(a)(3) | To modify the special permit to reflect current statutes and regulations LA pertaining to consumer commodities.
14576-M |  | Structural Composites Industries (SCI) Pomona, CA | 49 CFR 173.302a and 173.304a | To modify the special permit to authorize additional Division 2.1 and 2.2 materials and add Division 2.3 materials.
15136-M |  | Luxfer Gas Cylinders Riverside, CA | 49 CFR 173.302a, 173.304a, and 180.205 | To modify the special permit to authorize a new maximum allowable volume and allowable contents.

[FR Doc. 2013-03785 Filed 2-21-13; 8:45 am]

BILLING CODE 4909-60-M